DEPARTMENT OF ENERGY

Federal Energy Regulatory Commission

[Docket No. PR00-344-001]

Dominion Transmission, Inc.; Notice of Compliance Filing

August 8, 2001.

Take notice that on July 31, 2001, Dominion Transmission, Inc. (DTI) tendered for filing to be part of its FERC Gas Tariff, Third Revised Volume No. 1, the revised tariff sheets listed on Attachment A to the filing, in order to implement the “Order on Order No. 637 Settlement” issued in the captioned proceedings on May 31, 2001. DTI moves to place these tariff sheets into effect on September 1, 2001, consistent with the Commission's Order and DTI's settlement.

DTI submits these tariff sheets to implement the settlement approved by the Commission. DTI states that the filed tariff sheets include two minor changes from the pro forma tariff sheets submitted with the settlement, reflecting (1) a clarification to the settlement agreed upon by the parties and approved by the Commission and (2) the correction of certain references to “a.m.” to “p.m.” in its intraday nomination timeline.

DTI states that copies of its filing have been served on parties on the service list in these proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20341 Filed 8-13-01; 8:45 am]

BILLING CODE 6717-01-P